DEPARTMENT OF TRANSPORTATION

National Highway Traffic Safety Administration

Denial of Motor Vehicle Recall Petition

AGENCY: National Highway Traffic Safety Administration (NHTSA), Department of Transportation.

ACTION: Denial of a petition for an investigation into alleged defects in Firestone Steeltex tires.

SUMMARY: This notice denies a petition submitted to NHTSA under 49 U.S.C. 30162 by the Law Offices of Lisoni & Lisoni of Pasadena, California. The petition requests that the agency open a safety-related defect investigation into alleged defects in Firestone Steeltex tires manufactured from 1999 through 2005 in four Firestone plants located in Joliette, Canada; Aiken, South Carolina; Decatur, Illinois; and Cuernavaca, Mexico. After review of the information submitted by the petitioners and other pertinent information, NHTSA has concluded that further expenditure of the agency's investigative resources on the issues raised by the petition does not appear warranted.

FOR FURTHER INFORMATION CONTACT: Mr. Derek Rinehardt, Safety Defects Engineer, Office of Defects Investigation (ODI), NHTSA, 400 Seventh Street, SW., Washington, DC 20590. Telephone: (202) 366-3642.

SUPPLEMENTARY INFORMATION:

Petition Review—DP06-001

1.0 Introduction

On May 1, 2006, the Law Offices of Lisoni & Lisoni (petitioners) submitted a petition requesting that the Office of Defects Investigation (ODI) open an investigation of Firestone Steeltex tires pursuant to 49 U.S.C. 30162, and issue a recall order pursuant to 49 U.S.C. 30118(b), 30119 and 30120. This petition was denominated as DP06-001. Petitioners submitted some additional information on June 23, 2006.

Under 49 U.S.C. 30166, NHTSA has the authority to conduct an investigation to consider whether a motor vehicle or equipment contains a safety-related defect. 49 U.S.C. 30118(b) authorizes NHTSA to make a determination that a motor vehicle or motor vehicle equipment contains a defect related to motor vehicle safety. If NHTSA makes such a determination, NHTSA issues an order directing the manufacturer of the vehicle or equipment to give notification of the defect to the owners, purchasers and dealers and to remedy the defect under 49 U.S.C. 30120. Collectively, the manufacturer's notice and provision of a remedy under section 30120 are known as a recall.

ODI has an ongoing review process in which it reviews consumer complaints and data submitted by manufacturers in an effort to identify defect trends. If this ongoing review of information were to reveal possible defect trends in Steeltex or any other tires, ODI would open an investigation, as it does on scores of vehicle and equipment issues every year when the available evidence so warrants. In addition, any interested person may, under section 30162, file a petition requesting that NHTSA begin a proceeding to decide whether to issue an order under section 30118.

As a practical matter, the granting of a petition under section 30162 begins an investigation. An investigation may or may not result in a recall. In determining whether to grant or deny a petition under 30162, NHTSA conducts a technical review of the petition. 49 CFR 552.6. The technical review may consist of an analysis of the material submitted together with the information already in the possession of the agency. It may also include the collection of additional information. NHTSA has discretion in deciding which matters are worthy of investigation and possible recall order. In addition to the technical merits of the petition, NHTSA may consider additional factors, such as the allocation of agency resources, agency priorities, and the likelihood of success in litigation that might arise from the order sought by the petitioner. 49 CFR 552.8. As noted above, if NHTSA grants the petition, an investigation is commenced to determine the existence of the defect. 49 CFR 552.9.

Motor vehicle tires are items of equipment subject to a recall order under section 30118 if they contain a defect related to motor vehicle safety. Were NHTSA to issue an order directing the recall of tires under that section, the agency would have the burden of demonstrating the existence of the defect and that the defect is safety-related. One possible indicator of a defective tire is an excessively high rate of failures compared to other, comparable tire lines. However, not every tire failure is the result of a defect in the tire. Tires may fail for a variety of reasons, such as improper maintenance and impact damage from road hazards. Moreover, because not all tires with the same broad label (e.g., “Steeltex”) are constructed in exactly the same way or designed for the same function, NHTSA often focuses on whether any specific grouping of similarly constructed tires (e.g., distinguished by tire line, tire size, and/or date and location of manufacture) is defective. DP06-001 is a broad and sweeping petition that covers a number of different tires. NHTSA could not base a recall order merely on a generalized allegation that an enormous population of tires is defective. Instead, NHTSA must carefully review the details underlying such an allegation to determine whether the facts provide a basis for agency action.

ODI began a technical review of DP06-001 on May 24, 2006. During the review, ODI:

• Analyzed data within its own Vehicle Owners Questionnaire (VOQ) database;

• Analyzed early warning reporting (EWR) data submitted by all tire manufacturers since December 2003;

• Requested and analyzed data pertaining to Steeltex tire performance from Bridgestone-Firestone North American Tire, LLC (Firestone);

• Analyzed the petition contents and additional data requested from the petitioners;

• Reviewed prior petitions submitted by petitioners: DP02-011, DP04-004 and DP04-005.

Based on this technical review, NHTSA has concluded that the petition should be denied.

2.0 Background

DP06-001 is the fourth petition submitted by the petitioners asking the agency to open a defect investigation into Steeltex tires. In addition to the four petitions from the petitioners, the agency has reviewed Steeltex tire data in two other instances, as discussed in more detail below.

The scope of the current petition involves over 23 and a half million Steeltex tires in three load ranges (C, D, and E), three tire lines (all terrain (A/T) and all season (R4S and R4SII)), and in twelve sizes ¹ manufactured since 1999 at four plants (Joliette, Canada; Aiken, South Carolina; Decatur, Illinois and Cuernavaca, Mexico). Steeltex is a model name applied to the majority of light truck radial tires that Firestone sold beginning in about 1990. Steeltex tires have been the primary original equipment (OE) tire on many of the largest passenger vans, sport utility vehicles (SUVs), pickup trucks, and “cutaways” (including motor homes and ambulances) sold since 1990. However, they are no longer in production.²

¹ The twelve tire sizes are: 7.00R15LT, 7.50R16LT, 8.00R16.5LT, 8.75R16.5LT, 9.50R16.5LT, LT215/75R15, LT215/85R16, LT225/75R16, LT235/75R15, LT235/85R16, LT245/75R16, LT265/75R16.

² Firestone phased out the production of the various Steeltex tire lines between 2004 and 2005.

Load Range E (LRE) tires represent the largest population of Steeltex tires manufactured from 1999 through 2005—accounting for approximately eighty-three percent of the Steeltex tires produced. LRE tires may be inflated up to 80 psi and can carry between 2,500 lbs and 3,400 lbs per tire. LRE tires have the highest load rating among the three load ranges of Steeltex tires. LRE tires are also used in more diverse applications and operate under more severe duty conditions and higher loads than the lesser load range tires (Load Range C and Load Range D).

Steeltex tires are light truck radial (LTR) tires comprised of two polyester body plies and two steel belts. LTR tires are distinguished from passenger radial (PSR) tires by having heavier cord gauges, thicker rubber plies, deeper tread depths, and substantially higher inflation pressures. Within the population of Steeltex tires there exists a variety of designs that include obvious differences such as tread pattern, sidewall configuration, and tire size, as well as differences in internal construction such as cord configuration, cord gauge, cord angle, and mold shape.

ODI initiated its first investigation (PE00-040) of Steeltex tires on September 9, 2000. PE00-040 was closed on April 9, 2002. This investigation revealed that Steeltex tires displayed failure rates comparable to and, in some instances, lower than those of LTR tires sold by other major manufacturers. ODI also noted that the vehicle type had the largest influence on the likelihood of a tire failure causing a vehicle crash.

ODI revisited the issue of Steeltex tire failures during its review of the petitioners' November 2002 petition (DP02-011). Petitioners alleged that all Steeltex tires manufactured since 1990 were defective, that ODI had undercounted VOQs in its database, and that Firestone had deliberately understated its failure figures. ODI denied DP02-011after finding that VOQ and Firestone data had changed little since the closing of PE00-040 and that no specific defect trend was identified. See 68 FR 35941 (June 17, 2003).

Based in part on EWR data, Firestone announced on February 26, 2004, that it would recall ³ approximately 487,000 LT265/75R16 Load Range D Steeltex A/T tires manufactured primarily for OE fitment on MY 2000-2003 Ford Excursion SUVs. At that time, EWR and other data did not indicate a defect trend in Steeltex tires outside of this recalled population.

³ NHTSA Recall # 04T-003.

ODI again revisited the subject of Steeltex tire failures in May of 2004 after petitioners filed two more defect petitions (DP04-004 and DP04-005). The petitions alleged that all Steeltex tires manufactured since 1995 were defective (DP04-004) and that Steeltex tires installed as OE on ambulances pose an unacceptable safety risk to Emergency Medical Service (EMS) operators (DP04-005). NHTSA issued a notice denying both petitions on September 29, 2004. See 69 FR 58221. NHTSA concluded that no defect trend existed as the Steeltex tires' failure rates did not stand out from those of their peers.

3.0 Petition Allegations—DP06-001

Overall, petitioners' allegations in DP06-001 are not new—they primarily restate assertions from DP04-004 and DP04-005. As in those prior petitions, the petitioners do not point to a particular defect or failure mode. Rather, they contend that various failures lead to the conclusion that the entire population of subject tires is generally defective. Further, petitioners devote nearly the entire May 2006 petition attempting to rebut particular points made in NHTSA's September 29, 2004 notice denying their prior petitions (DP04-004 and DP04-005). One noticeable difference between their prior petitions and DP06-001 is that petitioners have narrowed the scope of DP06-001. Petitioners now ask the agency to open a defect investigation into Steeltex R4S, R4S II and A/T tires manufactured from 1999 to 2005 in Firestone's Decatur, Aiken, Joliette and Mexico manufacturing plants, excluding tires previously recalled under recall 04T-003. Even with this limitation, there are more than 23 million tires within the scope of the petition.

The petitioners provide limited information in support of DP06-001.⁴ The petition includes a list of 57 fatalities and 161 injuries allegedly resulting from “serious” design and manufacturing defects in the subject tires. The total includes a composite number of fatalities and injuries from a list of incidents compiled by the petitioners (non-VOQ incidents) and those that petitioners identified from VOQs submitted to NHTSA. As explained below, ODI's review of these allegations revealed numerous inconsistencies and indicated that the vast majority of the alleged deaths and injuries were not within the scope of this petition.

⁴ Petitioners provided two submissions to the agency. First, on May 1, 2006, they submitted materials with their petition. Second, on June 23, 2006, they submitted a response to ODI's request for more information.

On May 25, 2006, ODI requested more information detailing the specific failure modes and specific descriptions of all defect conditions alleged by the petitioners. The petitioners' June 23, 2006 response noted that an earlier list of supposedly relevant incidents submitted in March 2003 should be disregarded. However, the June 23, 2006 letter largely restated the information provided in the March 2003 letter, which was a supplement to their initial petition, DP02-011. A limited number of new alleged incidents were reported by the petitioners in their June 23, 2006 letter, but several did not fall within the scope of the current petition.⁵ Petitioners said in that letter that they would provide additional documentation of several of the deaths and injuries but, as of this writing, have not done so.

⁵ For example, the petitioners list an incident from June 30, 2002, involving 5 individuals (three fatalities and two injuries). The incident was determined to involve Michelin tires, not Firestone tires.

As in prior petitions, the petitioners refer to Firestone's mid-1990s C95 cost reduction program ⁶ to support their contention that tire quality degraded, causing numerous defects with Steeltex tires. Petitioners did not provide any new evidence supporting their contention that implementation of the C95 program degraded manufacturing quality at the four Firestone plants identified in their petition. Firestone contends that many of the recommendations in the C95 program were never implemented and that the changes that were implemented did not have any adverse effect on tire performance. ODI did not find any evidence that would link the C95 cost reduction program to any defect in Steeltex tires.

⁶ The C95 program was a Firestone program designed to improve manufacturing efficiencies and productivity at its manufacturing plants, as noted in detail in prior petitions (DP04-004 and DP04-005). Information concerning C95 was submitted by the petitioners to ODI in April 2003 during ODI's technical review of DP02-011. The documents submitted included a list of 153 potential cost-reduction recommendations.

4.0 DP06-001 Analysis

4.1 Information Submitted by Petitioners

Petitioners' central allegation in DP06-001 is that Steeltex tires have caused 57 deaths and 161 injuries since 1999. ODI has carefully reviewed the list to verify the petitioners' allegations and to determine which of the alleged deaths and injuries are actually relevant to the tires that are the subject of the petition and, of those, which had not previously been considered by NHTSA in connection with the petitioners' previous petitions. Only by sorting out which allegations are within the scope of the present petition can we determine whether that petition provides a basis for the requested action.

The petitioners' list of deaths and injuries includes multiple duplicate incidents ⁷, incidents that did not involve a tire failure ⁸, incidents involving tires not manufactured by Firestone ⁹, incidents involving tires manufactured prior to 1999 ¹⁰, incidents involving tires that have been previously recalled under recall number 04T-003 ¹¹, and incidents allegedly involving injuries that were determined to in fact not involve any injuries.¹²

⁷ For example, the petitioners counted separately three VOQs (10095168, 10090258 and 10098938) that were related to the same incident alleging an injury. In addition, the subject tire was manufactured in 1997, which is outside the scope of the petition. Also, the petitioners list VOQ 555477 as a unique incident but that was a duplicate of VOQ 10002751.

⁸ For example, five firefighters were counted in the fifty-seven fatalities alleged by the petitioners to be a result of a Steeltex tire failure. However, published reports indicate that the incident was caused by driver error (the driver was found guilty of careless driving), not a tire failure. Also, petitioners count an injury reported through VOQ 8000804, which cites engine stall, not a tire failure.

⁹ For example: (a) the petitioners included four injuries associated with VOQ 560738, although the subject tire of the incident was determined to be a Goodyear Wrangler Radial LT245/75R16, and (b) one incident from the petitioners' list involving three fatalities and two injuries was determined to involve a Michelin tire.

¹⁰ For example, petitioners included: (a) four alleged injuries associated with VOQ 865772, which references a tire manufactured in 1997; and (b) one injury alleged in VOQ 868962 that references an incident with a date (February 12, 1994) that is not within the scope of the petition.

¹¹ For example: (a) an incident from the petitioners' list involving a 2000 Ford Excursion alleging five serious injuries was determined to involve a tire that fell within the scope of recall 04T-003; and (b) the petitioners counted four injuries associated with VOQ 10060714, although the tires fell within the scope of the recall 04T-003.

¹² For example: (a) the petitioners counted five injuries associated with VOQ 748712, although the VOQ's narrative states “luckily, no one was injured”; and (b) the petitioners counted one injury associated with VOQ 10146790, although the VOQ notes “0 injuries and 0 fatalities”.

Additionally, petitioners overstate the number of relevant complaints and related deaths and injuries in ODI's VOQ database. They cite to one VOQ (10007251) that allegedly documents 18 fatalities and 27 injuries associated with Steeltex tire failures. In a press release submitted to the agency on May 2, 2006, the petitioners state that this VOQ is “perhaps the most shocking” of the complaints to NHTSA and that it “documents a tire tread belt failure resulting in eighteen deaths and twenty-seven injuries”. Actually this VOQ does not document an incident where a single tread belt failure resulted in eighteen deaths and twenty-seven injuries. The VOQ was previously submitted by petitioners in March 2003 and consists of a compilation of deaths and injuries alleged by the petitioners to have occurred in several different incidents. ODI's analysis of the incidents listed in this VOQ found that many of the incidents could not be validated, including some incidents that involved vehicles that would not normally be fitted with light truck radial tires as well as some that involved Steeltex tires outside the scope of the petition (i.e., prior to 1999). ODI confirmed that only three incidents (three injuries) alleged by VOQ 10007251 were within the scope of DP06-001. When ODI requested additional information about the March 2003 submission, the petitioners indicated that it should be ignored because it was superseded by DP06-001.

When all of the unrelated incidents and incidents associated with tires that are not within the scope of the petition are removed from the list submitted by petitioners, what remains are allegations of 6 fatalities and 43 injuries occurring over a period of six years. When, based on ODI's own research, data from Firestone and ODI were added, the totals were 19 fatalities and 209 injuries involving the approximately 23 million tires within the scope of DP06-001. As discussed above, these data include all tire-related crashes resulting in death or injury irrespective of whether a defect was identified in the tire.

Contrary to the petition's assertion of an increasing trend in such severe crashes, the data show that the trend of crashes involving deaths and injuries involving Steeltex tires is actually declining, with 82 percent fewer in 2005 than in 2003. Just 5 of the fatalities and 23 of the injuries occurred in the two years since ODI denied DP04-004 and DP04-005 from the petitioners in 2004.

4.2 VOQs Since the Denial of DP04-004 and DP04-005

In order to appropriately analyze DP06-001, ODI conducted a broad search of its VOQ database for any Steeltex tire-related complaints received since the September 29, 2004 denial of DP04-004 and DP04-005. Since the denial of those petitions, ODI has received 131 VOQs alleging a failure of a Steeltex tire. Forty-two VOQs were associated with tires that did not fall within the scope of DP06-001. Fifty-two VOQs alleged Steeltex tire failures, but did not provide sufficient information in the VOQ to determine whether the tire fell within the scope of this petition.¹³

¹³ For some of the VOQs submitted by petitioners, ODI was unable determine if the tire reported fell within the scope of DP06-001. ODI made attempts to contact the consumers to obtain accurate DOT numbers of the reported tires. ODI could not determine if the reported tires fell within the scope of DP06-001 due to one or more of the following reasons: invalid or unknown tire information (DOT numbers) or incorrect or inadequate consumer contact information to obtain the correct DOT number.

Thirty-seven VOQs received since the closure of DP04-004 and DP04-005 appeared to be within the scope of the present petition. However, of the 37 VOQs, 14 involved tires that were within the population of Steeltex tires recalled in 04T-003. Those previously recalled tires are not within the scope of this petition. Eliminating the 14 complaints for tires that have been recalled leaves 23 complaints that ODI has verified as within the scope this petition. Of the remaining 23 complaints, two involved alleged crashes that resulted in two minor injuries. While ODI is always concerned when a crash is alleged to have occurred, examination of the complaint data, particularly in light of the large population of Steeltex tires, again demonstrates that the complaint rates for Steeltex tires are comparable to other tires. These rates do not indicate that a defect trend exists.

4.3 EWR Data

ODI began receiving EWR data from all major tire manufacturers in December of 2003. This includes data on production, death and injury claims and notices, property damage claims, and warranty adjustments.

ODI used two approaches to analyze EWR data. First, it analyzed the data in a manner similar to how the petitioners suggest a review of Steeltex tires should be conducted: By performing an analysis of Steeltex tire data in their entirety and comparing them to data on other major tire brands manufactured by other major light truck tire manufacturers. Second, ODI performed an analysis of Steeltex tires by specific tire line, tire size, and production years. Neither analysis identified a trend indicating a safety related issue. In fact, both analyses show downward trends since the third quarter of 2003, as previously noted.

ODI analyzed data on claims and notices involving a death or injury. Based on EWR data through the second quarter of 2006, the fatality and injury rates are showing a downward trend. Our analysis revealed that Steeltex tires within the scope of DP06-001 were below the industry average for the rate of claims and notices of death for light truck tires. Other major light truck tire manufacturers had higher fatality rates. With respect to rates for claims and notices involving an injury, Steeltex tire rates were slightly above the industry average; however, they did not stand out when compared to peer manufacturers (i.e. those with the largest volumes). Other major light truck tire manufacturers had higher rates for injuries. In addition, the trends of crashes involving Steeltex tires and resulting in death or injury have declined significantly in recent years, dropping by 82 percent from 2003 to 2005.

Analysis of severe crash (injurious and fatal) rates by tire line, tire size, and production years found that no Steeltex tire that ranked among the top 30 highest rates for light truck radial tires for the production years within the scope of the petition. In contrast to the tires recalled under 04T-003, the tires analyzed in DP06-001 with the highest fatality and injury rates where six times lower and four times lower, respectively, than the tires that were subject of the recall.

ODI's analysis of EWR data through the second quarter of 2006 revealed that the property damage claim rate for Steeltex tires as a whole is very close to and in many cases below the light truck radial (LTR) tire class average. An analysis of property damage and warranty adjustment rates by tire line, tire size and production year found no single Steeltex tire ranked among the top 20 highest rates for light truck radial tires for production years within the scope of the petition. Several other major light truck tire manufacturers have higher rates of property damage claims than Steeltex tires. Also, overall, property damage claims have shown a downward trend since calendar year 2003 for Steeltex tires. The data do not support a defect trend.

4.4 Firestone Data

ODI reviewed data on thousands of property damage and warranty adjustment claims, as well as lawsuits, injury and fatality claims and notices related to Steeltex tires produced between 1999 and 2005 submitted by Firestone. As with the prior petitions, LRE tires account for the vast majority of the Firestone claims. This reflects the large population of LRE tires in use, which exceeds the populations of the other load ranges identified by petitioners. In addition to such a large population, higher claims result from the severe duty conditions under which LRE tires typically operate. When compared to similar tires manufactured by other light truck tire manufacturers, Steeltex tires do not stand out. In fact, ODI's analysis of data submitted by Firestone and peer data from EWR indicate that the Steeltex tires perform at rates similar to those of the rest of the industry and compare favorably to at least two other major light truck tire manufacturers.

5.0 Discussion

This is the fourth petition filed by the petitioners requesting that NHTSA re-open its investigation into Steeltex tires. In response to the petitioners' last two petitions, the agency conducted a thorough assessment that included, among other things, the physical examination of Steeltex tires and the hiring of an independent expert to examine Steeltex tires. See 69 FR 58221, 58222. During the course of that technical review, the agency expended considerable resources to decide whether to open a new investigation on Steeltex tires. After the review, the agency did not identify a potential safety-related defect trend and, therefore, denied the petitions.

In the present petition, DP06-001, petitioners provided NHTSA with very little new data. Instead, they relied generally upon their past assertions that the totality of the complaints supports the finding of a defect trend. Petitioners' list of documented incidents of fatalities and injuries was marked by inconsistencies between what petitioners alleged and the actual facts of the incidents. Once the incidents that were not actually within the scope of the petition were removed, only three fatal crashes and 21 injurious crashes remained that were unknown to NHTSA at the time the agency issued its decisions on the previous petitions in September 2004. Other than this small number of incidents alleging a defect in Steeltex tires, the petitioners did not offer any further support that was not previously addressed by NHTSA in prior defect petitions. This small number of incidents, in such a large population of over 23 and a half million tires, does not evidence a defect trend.

Additionally, petitioners did not provide evidence of or identify a particular failure mode that would be indicative of performance issues that ODI could analyze and potentially confirm through its analysis of the available data. Contrary to the petitioners' broad assertion of a defect trend based upon various failure modes, the analysis of the available data does not identify a discrete failure mode that amounts to a potential safety-related trend.

The agency once again has spent considerable resources considering whether to re-open a defects investigation into Steeltex tires. ODI analyzed the available data for evidence of a possible source and mode of failure of the subject tires, including data submitted by the petitioners, VOQ and EWR data, Firestone's claim and adjustment data for the subject tires, owner complaints to ODI since the close of the prior petitions, and data available from the agency's prior technical reviews of Steeltex tire petitions.

The Steeltex tires within the scope of DP06-001 represent an immense and diverse population of tires totaling over 23 million tires distributed over 63 different tire line, size and manufacturing plant combinations that are used in the harshest light truck tire applications. ODI's analysis of VOQ and EWR data, and Firestone's property damage and warranty adjustment claim data by individual tire line, size, production year and manufacturing plant, indicate that, as in prior technical reviews, the failure rates for the subject population of Steeltex tires are within the range of rates observed in peer tires of similar size, age and application. Similarly, when the Steeltex tire data are analyzed as a whole, the data again show failure rates that are similar to, and in some cases lower than, peer tires of the same size and load rating.

In addition to examining property damage and warranty adjustment claim data, ODI also examined fatality and injury claims to determine if a defect trend in the subject tires could be identified based on those data. Our analysis of data involving tires within the scope of petition DP06-001 revealed a total of 19 fatalities in 12 crashes and 209 injuries in 121 crashes. ODI analyzed the data to determine if commonalities exist that would yield evidence of a defect trend. The tires on vehicles in these incidents were distributed over multiple tire lines, tire sizes, manufacturing plants and production years. In the case of fatal crashes, the Steeltex tires were distributed over all three tire lines, three different tire sizes, two assembly plants and four of the six production years. In the case of incidents resulting in injuries, the Steeltex tires were distributed over all three tire lines, four tire sizes, all four manufacturing plants and four of the six production years. Although a few of the incidents involved common tires, the failure rates of these tires did not reveal a defect trend.

The tires studied by ODI with the highest rate of involvement in crashes involving death or injury were the Steeltex Radial A/T LT265/75R16 Load Range D tires recalled by Firestone in 04T-003. These tires comprised approximately 2 percent of all Steeltex tires produced by Firestone from 1999 through 2005, but were involved in 20 percent of fatal crashes and 21 percent of all crashes resulting in death or injury. ODI's analysis of the Steeltex tires within the scope of DP06-001 found that the overall rate of such crashes per tires produced is 92 percent lower than the tires recalled in 04T-003. When analyzed by individual tire line and plant, the tire with the next highest rate of crashes resulting in death or injury had a rate 82 percent lower than the recalled tires.

Of the alleged 19 fatalities and 209 injuries, 14 of the alleged fatalities ¹⁴ and 186 of the alleged injuries occurred before or during our previous defect petitions. Although there have been a few additional crash incidents that have occurred since denial of the last two petitions, DP04-004 and DP04-005, these do not demonstrate a defect trend and no other new evidence has been provided to ODI to support the petitioners' allegations of safety defects in the subject Steeltex tires. Additionally, as was the case at the denial of DP04-004 and DP04-005, we do not have a basis for determining that these incidents, or any significant portion of them, are attributable to identifiable defects in a specific line and size of Steeltex tire.

¹⁴ One of the 14 fatalities occurred in 2003; however ODI was unaware of the incident when DP04-004 and DP04-005 were denied on September 28, 2004.

ODI is aware of three fatal crashes (six total fatalities) involving vehicles equipped with Steeltex tires that the agency had not previously considered when denying the earlier petitions (including the one crash that occurred in 2003 but did not come to the agency's attention until after those denials in 2004). Each crash involved a different line and size of Steeltex tire. ODI's analysis of available data sources ¹⁵ did not identify a defect trend with respect to either of the three different Steeltex tire lines or sizes involved in these crashes.

¹⁵ EWR, Firestone, VOQs, and Petitioners' List.

Additionally, ODI is also aware of twenty-one alleged crashes (twenty-three total injuries) occurring since the denial of DP04-004 and DP04-005. The tires involved in these incidents were of varying Steeltex tire lines, sizes, production years, and originated from three of the four manufacturing plants noted in the petition. Again, ODI's analysis of the various Steeltex tire lines and sizes involved in these incidents did not identify a defect trend.

6.0 Conclusion

ODI has now conducted four technical reviews of Firestone Steeltex tires at the petitioners' request. After review of the data available to the agency, and in consideration of factors such as application, usage, the number of failures, failure rates, peer comparisons, severity of injury, and examination of potential failure modes, the agency has not found evidence of a defect trend in a particular sub-category of Steeltex tires that has not been recalled or in the broad population of over 23 million Steeltex tires within the scope of the petition. Based on ODI's analysis of the information submitted in support of the petition, information in ODI's internal databases, information provided by Firestone, and information gathered through prior technical reviews of Steeltex tires, it is unlikely that NHTSA would issue an order for the notification and remedy of a safety-related defect in the subject tires at the conclusion of the investigation requested by the petitioners. Therefore, in view of the need to allocate and prioritize NHTSA's limited resources to best accomplish the agency's safety mission, petition DP06-001 is denied.

Authority: 49 U.S.C. 30120(e); delegations of authority at CFR 1.50 and 501.8.

Issued on: February 2, 2007.
Daniel C. Smith,
Associate Administrator for Enforcement.

[FR Doc. E7-2103 Filed 2-7-07; 8:45 am]

BILLING CODE 4910-59-P